OFFICE OF SCIENCE AND TECHNOLOGY POLICY

Request for Information; Sustainability of Microgravity R&D During and Beyond ISS Transition

AGENCY: Office of Science and Technology Policy (OSTP).

ACTION: Notice of request for information (RFI); correction.

SUMMARY: The White House Office of Science and Technology Policy (OSTP) published a document in the Federal Register on November 17, 2022, concerning a request for information to help inform the development of a National Strategy for Microgravity Research and Development (R&D). The document contained an incorrect date for the submission deadline.

FOR FURTHER INFORMATION CONTACT: Ezinne Uzo-Okoro; 202-456-4444.

SUPPLEMENTARY INFORMATION:

Correction

In the Federal Register of November 17, 2022, in 87 FR 69059, correct the “Dates” caption to read:

DATES: Interested persons and organizations are invited to submit comments on or before 5:00 p.m. ET, December 31, 2022 to be considered.

Dated: November 17, 2022.
Rachel Wallace,
Deputy General Counsel.

[FR Doc. 2022-25438 Filed 11-21-22; 8:45 am]

BILLING CODE 3270-F1-P